DEPARTMENT OF HEALTH AND HUMAN SERVICES

Centers for Disease Control and Prevention

[30 Day-13-12QP]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7570 or send an email to omb@cdc.gov. Send written comments to CDC Desk Officer, Office of Management and Budget, Washington, DC or by fax to (202) 395-5806. Written comments should be received within 30 days of this notice.

Proposed Project

Development of an Evaluation Plan to Evaluate Grantee Attainment of Selected Activities of Comprehensive Cancer Control Priorities—New—National Center for Chronic Disease Prevention and Health Promotion (NCCDPHP), Centers for Disease Control and Prevention (CDC).

Background and Brief Description

The National Comprehensive Cancer Control Program (NCCCP) is administered by the Centers for Disease Control and Prevention, National Center for Chronic Disease Prevention and Health Promotion, Division of Cancer Prevention and Control (DCPC). Through NCCCP, CDC supports comprehensive cancer control (CCC) programs in 50 states, the District of Columbia, seven tribes and tribal organizations, and seven U.S. Associated Pacific Islands/territories. CDC works with NCCCP awardees to establish coalitions, assess the burden of cancer, determine intervention priorities, and develop and implement CCC plans.

CDC has developed six priorities to guide the work of NCCCP grantees: (1) Emphasize primary prevention of cancer; (2) support early detection and treatment activities; (3) address public health needs of cancer survivors; (4) implement policies, systems, and environmental changes to guide sustainable cancer control; (5) promote health equity as it relates to cancer control; and (6) demonstrate outcomes through evaluation. These six priorities were shared with the CCC program directors, and they were asked to integrate and emphasize the priorities in their updated cancer plans. The six priorities were also incorporated in the new five-year coordinated cooperative agreement, Cancer Prevention and Control Programs for State, Territorial and Tribal Organizations.

CDC is requesting information needed to (1) assess the extent to which CCC programs are implementing the six NCCCP priorities, and (2) assess existing evaluation capacity building tools and revise tools as needed to support the implementation of NCCCP priorities. The information collection will consist of a web-based survey and focus groups that may be conducted in-person or by telephone.

Respondents for the National Comprehensive Cancer Control Program Survey will include 65 program directors representing 50 states, the District of Columbia, seven tribes and tribal organizations, and seven U.S.-affiliated territories. In addition, respondents will include four program directors representing the four component states of The Pacific Island Jurisdiction of the Federated States of Micronesia (FSM). Due to the diversity of the FSM, a survey will be distributed to each state-level FSM program director as well as the FSM national program director. The total number of respondents for the survey is 69 and the estimated burden per response is 30 minutes. The survey will be administered twice over a two-year period.

Information will also be collected through focus groups involving approximately 40 program directors and evaluators. Up to four focus groups will be conducted with a maximum of ten respondents per group. The estimated burden per response is 1.5 hours. Focus groups will be conducted once over a two-year period.

OMB approval is requested for two years. Participation is voluntary and there are no costs to the respondents other than their time. The total estimated burden hours per year are 65.

Estimated Annualized Burden Hours
Type of respondent | Form name | Number of respondents | Number of responses per respondent | Average burden per response (in hr)
NCCCP State Grantee Program Director | National Comprehensive Cancer Control Program Survey | 69 | 1 | 0.5
NCCCP State Grantee Program Project Director or Designated CCC Staff Member | National Comprehensive Cancer Control Program Focus Group | 20 | 1 | 1.5

Dated: March 15, 2013.
Ron A. Otten,
Director, Office of Scientific Integrity (OSI), Office of the Associate Director for Science (OADS), Office of the Director.

[FR Doc. 2013-06483 Filed 3-20-13; 8:45 am]

BILLING CODE 4163-18-P